DEPARTMENT OF ENERGY

Office of Science; DOE/Advanced Scientific Computing Advisory Committee

AGENCY: Department of Energy.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Wednesday, March 15, 2006, 10:30 a.m. to 5 p.m.; Thursday, March 16, 2006, 8:30 a.m. to 4 p.m.

ADDRESSES: American Geophysical Union, (AGU), 2000 Florida Avenue, NW., Washington, DC 20009-1277

FOR FURTHER INFORMATION CONTACT: Melea Baker, Office of Advanced Scientific Computing Research; SC-21/Germantown Building; U. S. Department of Energy; 1000 Independence Avenue, SW.; Washington, DC 20585-1290; Telephone (301)-903-7486, (E-mail: Melea.Baker@science.doe.gov).

SUPPLEMENTARY INFORMATION: Purpose of the Meeting: The purpose of this meeting is to provide advice and guidance on the advanced scientific computing research program.

Tentative Agenda: Agenda will include discussions of the following:

Wednesday, March 15, 2006

Introduction

Advisory Committee Operations

Office of Science Overview

Advanced Scientific Computing Research (ASCR) Overview

Scientific Discovery Through Advanced Computing (SciDAC) Recompetition

ASCR High Performance Computing Facilities and Testbeds

ASCR High Performance Networks and Associated Research

View from OMB

Distributed Network Environment Research

Public Comment

Thursday, March 16, 2006

Computer Science Research Program

LLNL-ANL-IBM R&D Collatorations

ASCR Performance Measures

SciDAC Conference Report

Applied Mathematics Research Program Status

ASCR Partnerships with other Offices in SC

Education, Computational Science Graduate Fellowship (CSGF), Early Career Principal Investigator (ECPI)

Implementation of Committee of Visitors (COV) findings, Congressional actions, Protecting Americas Competitive Edge (PACE), Advanced Research Projects Agency—Energy (ARPA-E)

Advisory Committee Open Discussion of Issues

Review Calendar for CY 2006

Public Comment

Public Participation: The meeting is open to the public. If you would like to file a written statement with the Committee, you may do so either before or after the meeting. If you would like to make oral statements regarding any of the items on the agenda, you should contact Melea Baker via FAX at 301-903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The minutes of this meeting will be available for public review and copying within 30 days at the Freedom of Information Public Reading Room; 1E-190, Forrestal Building; 1000 Independence Avenue, SW.; Washington, DC 20585; between 9 a.m. and 4 p.m., Monday through Friday, except holidays.

Issued in Washington, DC, on February 14, 2006.
Rachel Samuel,
Deputy Advisory Committee, Management Officer.

[FR Doc. E6-2352 Filed 2-16-06; 8:45 am]

BILLING CODE 6450-01-P